DEPARTMENT OF TRANSPORTATION

Federal Transit Administration

Limitation on Claims against Proposed Public Transportation Projects

AGENCY: Federal Transit Administration (FTA), DOT.

ACTION: Notice.

SUMMARY: This notice announces final environmental actions taken by the Federal Transit Administration (FTA) for the Dulles Corridor Metrorail Project, Phase 2 Preliminary Engineering Design Refinements, Fairfax and Loudoun Counties, VA. The purpose of this notice is to announce publicly the environmental decisions by FTA on the subject project and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before May 27, 2013.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation project listed below. The actions on this project, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed project as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The project and actions that are the subject of this notice are:

Project name and location: Dulles Corridor Metrorail Project, Phase 2 Preliminary Engineering Design Refinements, Fairfax and Loudoun Counties, VA. Project sponsor: Metropolitan Washington Airports Authority (Airports Authority). Project description: The Airports Authority is proposing to construct the second phase of the Dulles Corridor Metrorail Project (Project), a two-phase extension of the Washington Metropolitan Area Transit Authority (WMATA) Metrorail system to the Washington Dulles International Airport in Loudoun County, VA. The FTA and the Airports Authority originally evaluated the Project through a Final Environmental Impact Statement (FEIS) in December 2004. The FTA and the Airports Authority, as joint lead agencies, and the Federal Aviation Administration, as a cooperating agency, evaluated the potential environmental and socioeconomic effects from design refinements for Phase 2 of the Project in an Environmental Assessment (EA) in May 2012. The Phase 2 design refinements are the result of preliminary engineering performed following publication of the FEIS and issuance of an Amended Record of Decision for the Project by FTA in November 2006. The Phase 2 design refinements included changes to parking facilities, side station facilities, ancillary facilities, and relocation of the Dulles International Airport Station from below to above ground. This action is on the December 2012 Finding of No Significant Impact. Nothing in this notice affects FTA's previous decisions, or notice thereof, for this project. More specifically, the statute of limitations for the approvals documented in the project's November 17, 2006 Amended Record of Decision and the environmental documents on which it is based expired on June 4, 2007, as noticed in the Federal Register on December 4, 2006 (71 FR 70449). This notice only applies to the discrete actions taken by FTA at this time, as described below. Final agency actions: Section 4(f) determination; a Section 106 revised Memorandum of Agreement; and Finding of No Significant Impact (FONSI), dated December 17, 2012. Supporting documentation: Environmental Assessment, dated May 2012.

Issued on: _December 20, 2012.
Lucy Garliauskas,
Associate Administrator for Planning and Environment Washington, DC.

[FR Doc. 2012-31288 Filed 12-27-12; 8:45 am]

BILLING CODE P